DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 24, 2010. Address written comments to Statutory Import Programs Staff, Room 3720, U.S. Department of Commerce, Washington, DC 20230. Applications may be examined between 8:30 a.m. and 5 p.m. at the U.S. Department of Commerce in Room 3720.

Docket Number: 10-046. Applicant: University of Connecticut, Purchasing Department, 3 North Hillside Road, Unit 6076, Storrs, CT 06269-6076. Instrument: Electron Microscope. Manufacturer: FEI Company, Czech Republic. Intended Use: The instrument will be used for many experiments, such as studying the mechanism of the growth of nano particles of TiO2 from solution for dye-sensitized solar cell. The instrument has unique features that allow operation in ESEM and in-situ modes. Justification for Duty-Free Entry: There are no instruments of the same general category manufactured in the United States. Application accepted by Commissioner of Customs: September 22, 2010.

Docket Number: 10-060. Applicant: The University of Texas at Arlington, 7300 Jack Newell Blvd. S., Fort Worth, TX 76118. Instrument: Electron Microscope. Manufacturer: FEI Company, Czech Republic. Intended Use: The instrument will be used for automated manipulation of nanoscale components and their assembly/integration into a micro/meso scale device. The instrument is the only instrument that can provide ultra-high resolution images in both high and low vacuum pressure ranges. Justification for Duty-Free Entry: There are no instruments of the same general category manufactured in the United States. Application accepted by Commissioner of Customs: October 5, 2010.

Dated: October 29, 2010.
Gregory Campbell,
Acting Director, IA Subsidies Enforcement Office.

[FR Doc. 2010-27885 Filed 11-3-10; 8:45 am]

BILLING CODE 3510-DS-P